DEPARTMENT OF THE TREASURY

Submission for OMB Review; Comment Request

May 13, 2010

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 21, 2010 to be assured of consideration.

Bureau of Public Debt (BPD)

OMB Number: 1535-0023.

Type of Review: Extension without change of a currently approved collection.

Title: Request To Reissue United States Savings Bonds.

Form: PD F 4000.

Abstract: Form is used by owners to identify the securities involved and to establish authority to reissue them.

Respondents: Individuals or Households.

Estimated Total Burden Hours: 270,000 hours.

OMB Number: 1535-0062.

Type of Review: Revision of a currently approved collection.

Title: Special Bond of Indemnity By Purchaser of United States Savings Bonds/Notes Involved in a Chain Letter Scheme.

Form: PD F 2966.

Abstract: Used by the purchaser of savings bonds in a chain letter scheme to request refund purchase price of the bonds.

Respondents: Individuals or Households.

Estimated Total Burden Hours: 320 hours.

OMB Number: 1535-0092.

Type of Review: Revision of a currently approved collection.

Title: Subscription For Purchase and Issue of U.S. Treasury Securities— State and Local Government Series.

Form: PD-F-4144, 4144-1, 4144-2, 4144-5, 4144-6, 4144-7.

Abstract: The information is necessary to establish the accounts for owners of securities of State and Local Government Series.

Respondents: State, Local, and Tribal Governments.

Estimated Total Burden Hours: 2,713 hours.

OMB Number: 1535-0127.

Type of Review: Extension without change of a currently approved collection.

Title: Offering of U.S. Mortgage Guaranty Insurance Company Tax and Loss Bonds.

Form: CFR Part 343.

Abstract: Regulations governing the issue, reissue, and redemption of U.S. Mortgage Guaranty Insurance Company Tax and Loss Bonds.

Respondents: Private Sector: Businesses or other for-profits.

Estimated Total Burden Hours: 20 hours.

Clearance Officer: Bruce Sharpe, Bureau of the Public Debt, 200 Third Street, Parkersburg, West Virginia 26106; (304) 480-8150.

OMB Reviewer: Shagufta Ahmed, Office of Management and Budget, New Executive Office Building, Room 10235, Washington, DC 20503; (202) 395-7873.

Celina Elphage,
Treasury PRA Clearance Officer.

[FR Doc. 2010-12094 Filed 5-19-10; 8:45 am]

BILLING CODE 4810-39-P